SOCIAL SECURITY ADMINISTRATION

[Docket No. SSA 2015-0051]

Privacy Act of 1974, as Amended; Computer Matching Program (SSA/Department of the Treasury, Bureau of the Fiscal Service (Fiscal Service))—Match Number 1304

AGENCY: Social Security Administration (SSA).

ACTION: Notice of a renewal of an existing computer matching program that will expire on March 31, 2016.

SUMMARY: In accordance with the provisions of the Privacy Act, as amended, this notice announces a renewal of an existing computer matching program that we are currently conducting with Fiscal Service.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Mary Ann Zimmerman,
Acting Executive Director, Office of Privacy and Disclosure, Office of the General Counsel.

Notice of Computer Matching Program, SSA With the Department of the Treasury, Bureau of the Fiscal Service

A. Participating Agencies

SSA and the Department of the Treasury, Bureau of the Fiscal Service.

B. Purpose of the Matching Program

The purpose of this matching program is to allow Fiscal Service to disclose ownership of Savings Securities to us. This disclosure will provide us with information necessary to verify an individual's self-certification of his or her financial status to determine eligibility for low-income subsidy assistance (Extra Help) in the Medicare Part D prescription drug benefit program established under the Medicare Prescription Drug, Improvement, and Modernization Act of 2003 (Pub. L. 108-173).

C. Authority for Conducting the Matching Program

The legal authority for this agreement is 1860D-4 of the Social Security Act (42 U.S.C. 1395W-114), which requires us to verify the eligibility of an individual who seeks to be considered as an Extra Help eligible individual under the Medicare Part D prescription drug benefit program and who self-certifies his or her income, resources, and family size.

Fiscal Service and we will execute this agreement in compliance with the Privacy Act of 1974 (5 U.S.C. 552a), as amended by the Computer Matching and Privacy Protection Act of 1988, and the regulations and guidance promulgated thereunder.

D. Categories of Records and Persons Covered by the Matching Program

The individuals covered under this agreement will be those who self-certify financial status for low-income subsidy assistance (Extra Help) in the Medicare Part D prescription drug benefit program established under the Medicare Prescription Drug, Improvement and Modernization Act of 2003.

We will provide Fiscal Service with a finder file consisting of Social Security Numbers (SSNs) extracted from our Medicare Database (MDB) File System. The MDB File System is a repository of Medicare applicant and beneficiary information related to Medicare Part A, Part B, Medicare Advantage Part C, and Medicare Part D. We may disclose file data from the MDB System pursuant to the “Medicare Part D and Part D Subsidy File” (60-0321), fully published at 71 Federal Register 42159 on July 25, 2006 and amended at 72 Federal Register 69723 on December 10, 2007.

Fiscal Service will match the SSNs in our finder file with the SSNs in Fiscal Service Savings Securities Registration Systems and return the formatted comparison file. These records reside in the systems of records Treasury/BPD.002, “United States Savings-Type Securities Treasury/BPD” and Treasury/BPD.008, “Retail Treasury Securities Access Application—Treasury/BPD” fully published at 73 Federal Register No. 142, pages 42904-2491 on July 23, 2008.

For definitive records (i.e., the actual securities issued in engraved or printed physical form), we will furnish Fiscal Service with the SSN, in a specified format, for each individual for whom we request Savings Securities ownership information. Fiscal Service will disclose the following to us: (a) The denomination of the security; (b) the serial number; (c) the series; (d) the issue date of the security; (e) the current redemption value; and (f) the return date of the finder file.

For book entry records (i.e., securities maintained as computer records on the records of a bank or Fiscal Service), we will furnish Fiscal Service with the SSN, in a specified format, for each individual for whom we request Savings Securities registration information. Fiscal Service bases the query on the SSN associated with the account and reports any subsequent account holdings. When a match occurs on an SSN, Fiscal Service will disclose the following: (a) The purchase amount; (b) the account number and confirmation number; (c) the series; (d) the issue date of the security; (e) the current redemption value; and (f) the return date of the finder file.

E. Inclusive Dates of the Matching Program

The effective date of this matching program is April 1, 2016, provided that the following notice periods have lapsed: 30 days after publication of this notice in the Federal Register and 40 days after notice of the matching program is sent to Congress and OMB. The matching program will continue for 18 months from the effective date and, if both agencies meet certain conditions, it may extend for an additional 12 months thereafter.

[FR Doc. 2016-04123 Filed 2-25-16; 8:45 am]

BILLING CODE 4191-02-P